DEPARTMENT OF ENERGY

10 CFR Part 852

RIN 1901-AA90

Guidelines for Physicians Panel Determinations on Worker Requests for Assistance in Filing for State Workers' Compensation Benefits

AGENCY: Department of Energy.

ACTION: Notice of proposed rulemaking; announcement of public hearing.

SUMMARY: This document announces a public hearing to be held on October 25, 2001, in order to obtain comments regarding a notice of proposed rulemaking published in the Federal Register on September 7, 2001. This is the second public hearing held on this proposed rulemaking. The first hearing was held on October 10, 2001, at the Forrestal Building in Washington, D.C. Testimony submitted at that hearing can be found at the Office of Advocacy website: www.eh.doe.gov/advocacy. Testimony submitted at the October 25 hearing will also be made available at this website.

DATES: Oral views, data, and arguments may be presented at the public hearing, beginning at 4 p.m. on October 25, 2001. DOE must receive requests to speak at the public hearing and a fax of your statements no later than 4 p.m., October 24, 2001. DOE is requesting that speakers bring four (4) copies of their written comments and prepared statements for the public hearing.

ADDRESSES: Those wishing to speak should contact Judy Keating at 202-586-7551, and fax a copy of their statements to Ms. Keating at 202-586-6010 in advance of the meeting (no later than 4 p.m. October 24, 2001). DOE requests that speakers bring four (4) copies of their statements to distribute to the media and the public. Speakers who have not preregistered will be allowed to speak once all registered speakers are heard. The meeting will not conclude until all those wishing to speak are heard.

The hearing will begin at 4 p.m. at the Radisson Hotel Cincinnati Airport (adjacent to the Cincinnati-Northern Kentucky International Airport in Hebron, Kentucky). You can find more information concerning public participation in this rulemaking proceeding in Section IV, “Opportunity for Public Comment,” of the previously published notice of proposed rulemaking (66 FR 46742).

Written comments can continue to be addressed to Ms. Loretta Young, Office of Advocacy, EH-8, U.S. Department of Energy, 1000 Independence Avenue, SW, Washington, DC 20585, “PHYSICIAN PANEL RULE COMMENTS.” The deadline for receiving written comments is November 8, 2001.

FOR FURTHER INFORMATION CONTACT: Judy Keating, Office of Advocacy, EH-8, U.S. Department of Energy, 1000 Independence Avenue, S.W., Washington, D.C. 20585; (202) 586-7551; fax: 202-586-6010; e-mail: judy.keating@eh.doe.gov.

Issued in Washington, DC, on October 17, 2001.
Steven Cary,
Acting Assistant Secretary, Environment, Safety and Health.

[FR Doc. 01-26510 Filed 10-17-01; 12:29 pm]

BILLING CODE 6450-01-P